DEPARTMENT OF THE INTERIOR

Fish and Wildlife Service

Notice To Extend the Public Comment Period for the Technical/Agency Draft Revised Recovery Plan for the Red-Cockaded Woodpecker (Picoides borealis)

AGENCY: Fish and Wildlife Service, Interior.

ACTION: Notice of extension of public comment period.

SUMMARY: The Fish and Wildlife Service gives notice that the comment period announced in the September 13, 2000, notice of availability of the Technical/Agency Draft Revised Recovery Plan for the red-cockaded woodpecker, will be extended an additional 30 days until December 13, 2000. The Service is providing this extension because of the extensive nature of the draft recovery plan revision and requests by one federal agency and one private organization for an extension. The red-cockaded woodpecker is a bird species endemic to the southeastern United States. The Service extends the current 60-day comment period and solicits review and comment from the public on this draft recovery plan revision.

DATES: Comments on the draft recovery plan revision received by December 13, 2000 will be considered by the Service.

ADDRESSES: You may obtain a copy of the draft recovery plan by contacting Ralph Costa, Clemson Field Office, U.S. Fish and Wildlife Service, Clemson University, Clemson, South Carolina 29634 (telephone 864/656-2432). Send written comments and materials regarding the plan to the Field Supervisor at the above address. Comments and materials received are available upon request for public inspection, by appointment, during normal business hours at the above address.

FOR FURTHER INFORMATION CONTACT: Mr. Ralph Costa at the above address and telephone number.

SUPPLEMENTARY INFORMATION:

Background

Restoring endangered or threatened animals or plants to the point where they are again secure, self-sustaining members of their ecosystems is a primary goal of our endangered species program. To help guide the recovery effort, we are working to prepare recovery plans for most of the listed species native to the United States. Recovery plans describe actions considered necessary for conservation of the species, establish criteria for downlisting or delisting them, and estimate time and cost for implementing the recovery measures needed.

The Endangered Species Act of 1973, as amended (16 U.S.C. 1531 et seq.) (Act), requires the development of recovery plans for listed species unless such a plan would not promote the conservation of a particular species. Section 4(f) of the Act, as amended in 1988, requires that a public notice and an opportunity for public review and comment be provided during recovery plan development. We will consider all information presented during a public comment period prior to approval of each new or revised recovery plan. We and other Federal agencies will also take these comments into account in the course of implementing approved recovery plans.

Red-cockaded woodpeckers are endemic to mature pine woodlands of the southeastern United States. Because of habitat loss and alteration, the species suffered severe declines throughout the first three quarters of the twentieth century. We officially listed the red-cockaded woodpecker as an endangered species in 1970 (35 FR 16047). Intensive research has greatly increased our understanding of the ecology of red-cockaded woodpeckers and has provided powerful management tools that have been highly successful in reversing the widespread declines of past decades. With appropriate management, the species can achieve full recovery. This draft revised recovery plan describes in detail the ecology and management of red-cockaded woodpeckers, and outlines a mechanism to recover the species based on new insight into population and species viability. We will use comments and information provided during this review in preparing the final recovery plan.

Public Comments Solicited

We solicit written comments on the recovery plan described. We will consider all comments received by the date specified above prior to approval of the plan.

Authority: The authority for this action is section 4(f) of the Endangered Species Act, 16 U.S.C. 1533 (f).

Dated: October 10, 2000.
Ralph Costa,
Field Supervisor.

[FR Doc. 00-26589 Filed 10-16-00; 8:45 am]

BILLING CODE 4310-55-P